COUNCIL ON ENVIRONMENTAL QUALITY

National Ocean Council—National Ocean Policy Draft Implementation Plan

AGENCY: Council on Environmental Quality.

ACTION: Extension of comment period.

SUMMARY: On July 19, 2010, President Obama signed Executive Order 13547 establishing a National Policy for the Stewardship of the Ocean, our Coasts, and the Great Lakes (National Ocean Policy). As part of the President's charge for Federal agencies to implement the National Ocean Policy, the National Ocean Council developed actions to achieve the Policy's nine priority objectives, and to address some of the most pressing challenges facing the ocean, our coasts, and the Great Lakes. Collectively, the actions are encompassed in a single draft National Ocean Policy Implementation Plan (Implementation Plan). The draft Implementation Plan describes more than 50 actions the Federal Government will take to improve the health of the ocean, coasts, and Great Lakes, which support tens of millions of jobs, contribute trillions of dollars a year to the national economy, and are essential to public health and national security.

Next, public comments on the draft Implementation Plan will inform the preparation of the final plan. Per our prior notice, which was published at 77 FR 2514 on January 18, 2012, we welcome your general input, and also pose the following questions:

• Does the draft Implementation Plan reflect actions you see are needed to address the nine priorities for the ocean, coasts, and the Great Lakes?

• What is the most effective way to measure outcomes and to detect whether a particular action in the Implementation Plan has achieved its intended outcome? Would a report card format be useful?

With this notice, we are pleased to inform you that the comment period on the draft Implementation Plan has been extended. As stated on the National Ocean Council's Web site, http://www.WhiteHouse.gov/oceans, on February 28, 2012, the new deadline for public comment on the draft Implementation Plan is March 28, 2012. Comments received will be collated and posted on the National Ocean Council Web site. The final Implementation Plan is expected in the spring of 2012.

DATES: The National Ocean Council must receive comments by midnight, March 28, 2012.

ADDRESSES: The draft Implementation Plan and additional information can be found at http://www.WhiteHouse.gov/oceans. Comments should be submitted electronically to http://www.WhiteHouse.gov/oceans. Comments may also be sent in writing to “ATTN: National Ocean Council” by fax to (202) 456-0753, or by mail to National Ocean Council, 722 Jackson Place NW., Washington, DC 20503. Heightened security measures in force may delay mail delivery; therefore, please allow at least two (2) to three (3) weeks of additional time for mailed comments to arrive. We encourage you to also submit comments through the National Ocean Council Web site.

FOR FURTHER INFORMATION CONTACT: Questions about the content of this request may be submitted through the National Ocean Council Web site at http://www.WhiteHouse.gov/administration/eop/oceans/contact or by mail to National Ocean Council, 722 Jackson Place NW., Washington, DC 20503. Please note, heightened security measures in force may delay mail delivery; therefore, we encourage you to also submit questions through the National Ocean Council Web site.

Dated: March 9, 2012.
Nancy H. Sutley,
Chair.

[FR Doc. 2012-6215 Filed 3-13-12; 8:45 am]

BILLING CODE 3225-F2-P